DEPARTMENT OF ENERGY

Notice of Intent To Prepare a Supplemental Environmental Impact Statement for Remediation of Area IV and the Northern Buffer Zone of the Santa Susana Field Laboratory and Conduct Public Scoping Meetings

AGENCY: Office of Environmental Management, Department of Energy.

ACTION: Notice of intent to prepare a supplemental environmental impact statement and conduct public scoping meetings.

SUMMARY: The U.S. Department of Energy (DOE) announces its intent to prepare a supplemental environmental impact statement (SEIS) under the National Environmental Policy Act (NEPA) to evaluate additional alternatives for cleanup of soils in Area IV, including the Energy Technology Engineering Center (ETEC), as well as the Northern Buffer Zone (NBZ) of the Santa Susana Field Laboratory (SSFL) (DOE/EIS-0402-S1) in eastern Ventura County, California, adjacent to Los Angeles County. DOE's operations bordered the NBZ. DOE is responsible for soil cleanup in Area IV and the portions of the NBZ where DOE's activities impacted the soils. This SEIS, prepared to supplement the “Final Environmental Impact Statement for Remediation of Area IV and the Northern Buffer Zone of the Santa Susana Field Laboratory and Conduct Public Scoping Meetings” (Final SSFL Area IV EIS) (DOE/EIS-0402; November 2018), will include additional soils remediation alternatives not previously evaluated. DOE is initiating a 60-day public scoping period. DOE plans to hold two public scoping meetings.

DATES: DOE invites Federal and State agencies, State and local governments, Native American Tribes, industry and other organizations, and members of the public to submit comments to assist in determining the appropriate scope of this SEIS. The public scoping period will extend until February 25, 2025. DOE plans to hold two public scoping meetings. Dates, times, and locations will be announced in local media and posted on the ETEC EIS website at https://www.ssflareaiveis.com/ at least 15 days before the date of the meetings.

DOE will consider all comments received or postmarked by the end of the scoping period. Comments submitted after the close of the scoping period will be considered to the extent practicable.

Additional information regarding scoping meetings is provided on the ETEC EIS website at https://www.ssflareaiveis.com/.

ADDRESSES: Written comments on the scope of the SEIS, requests to speak at a public meeting, requests to be added to the SEIS mailing list, and comments or questions on the scoping process can be sent to: Dr. Joshua Mengers, NEPA Document Manager, Leidos 2109 Air Park Road SE, Ste 200 Albuquerque, NM 87106. Comments may also be submitted by email to SSFL_DOE_SEIS@emcbc.doe.gov (use “Scoping Comments” for the subject), or on the EIS website at https://www.ssflareaiveis.com/. Please submit comments in Microsoft™ Word or PDF file format and avoid the use of encryption.

FOR FURTHER INFORMATION CONTACT: For general information on the DOE Office of Environmental Management NEPA process, contact: Bill Ostrum, EM NEPA Compliance Officer, U.S. Department of Energy, 1000 Independence Avenue SW, Washington, DC 20585; 202-5896-2513 or email: william.ostrum@hq.doe.gov.

SUPPLEMENTARY INFORMATION: This NOI, the 2018 SSFL Area IV EIS, and related information are available online at https://www.energy.gov/nepa and at https://www.ssflareaiveis.com/.

Additional information about the SSFL Area IV is available in the following public reading rooms:

• Simi Valley, California: Simi Valley Library, 2969 Tapo Canyon Road, (805) 526-1735;

• Hidden Hills, California: Hidden Hills City Hall, 6165 Spring Valley Road, (818) 888-9281;

• Northridge, California: California State University Northridge Oviatt Library, 2nd Floor, Room 265, (818) 677-3465; and

• Chatsworth, California: State of California Department of Toxic Substances Control, 9211 Oakdale Avenue, (818) 717-6500.

Background

DOE is preparing the “Supplemental Environmental Impact Statement for Remediation of Area IV and the Northern Buffer Zone of the Santa Susana Field Laboratory” (SEIS) (DOE/EIS-0402-S1) in accordance with the National Environmental Policy Act of 1969, as amended (Pub. L. 91-190,42 United States Code (U.S.C.) 4321 et seq.) (NEPA), the Council on Environmental Quality's (CEQ) NEPA regulations (40 CFR parts 1500-1508),¹ and DOE's NEPA Implementing Procedures (10 CFR part 1021).

¹ The DOE is aware of the November 12, 2024, decision in Marin Audubon Society v. Federal Aviation Administration, No. 23-1067 (D.C. Cir. Nov. 12, 2024). To the extent that a court may conclude that the CEQ regulations implementing NEPA are not judicially enforceable or binding on this agency action, the DOE has nonetheless elected to follow those regulations at 40 CFR parts 1500-1508, in addition to the DOE's procedures/regulations implementing NEPA at 10 CFR part 1021, to meet the agency's obligations under NEPA, 42 U.S.C. 4321 et seq.

Site History. Located on 2,850 acres in the hills between the San Fernando Valley and Simi Valley, CA, SSFL was established in 1947 by North American Aviation (NAA) for the development and testing of liquid propellant rocket engines, first for the U.S. Air Force and subsequently for the National Aeronautics and Space Administration (NASA). In 1955, NAA established the subdivision Atomics International for the purpose of conducting energy research and testing small nuclear reactors for the Atomic Energy Commission (AEC), a predecessor agency to DOE, and commercial clients in the western portion of SSFL, also known as Area IV. Atomics International merged into Rocketdyne in 1984. In 1996, the Boeing Company (Boeing) acquired part of Rocketdyne, and with it SSFL.

SSFL is divided into four administrative areas and two contiguous buffer zones north and south of the administrative areas. Area I consists of about 714 acres, including 672 acres that are owned and operated by Boeing and 42 acres that are owned by the Federal Government and administered by NASA. Area II consists of about 410 acres that are owned by the Federal Government and administered by NASA. Area III consists of about 120 acres that are owned and operated by Boeing. Area IV consists of about 290 acres that are owned by Boeing in which 90 acres have been leased by DOE and its predecessors for work described below. Boeing also owns contiguous buffer zone areas of 1,143 acres to the south (Southern Buffer Zone) and 182 acres to the north (NBZ). DOE has no responsibilities for the Southern Buffer Zone as it adjoins SSFL Areas I, II, and III. DOE does have responsibility for the cleanup of soils in the 290 acres of Area IV and in the 182-acre NBZ. Not all of the energy research conducted in Area IV was performed for DOE. Boeing has responsibility for the decontamination and demolition of the buildings it owns.

Starting in the mid-1950s, the AEC funded nuclear energy research on a 90-acre parcel of SSFL Area IV leased from Atomics International. ETEC was established by the AEC on this parcel in the early 1960s as a “center of excellence” for liquid metals technology. Boeing and its predecessors operated ETEC on behalf of DOE. At ETEC, DOE also operated 10 small nuclear reactors built for various research activities. All SSFL reactor operations ended in 1980, and nuclear research work was completed in 1988.

Cleanup of ETEC began in the 1960s and was undertaken continually and as unnecessary facilities were decommissioned. Operation of the research facilities and reactors resulted in localized radiological and chemical contamination of soil and groundwater, and the concrete containment that surrounded the reactors became radioactive. The major periods of building demolition were 1975 through 1977 and 1995 through 2005, and recently in 2020 through 2021. DOE has removed all nuclear materials from the site, as well as all above grade portions of its buildings (a few foundations remain). Prior building demolition and soil remediation efforts resulted in removal of much of the chemical and radioactive material from Area IV.

Prior NEPA Reviews: In March 2003, DOE issued an “Environmental Assessment for Cleanup and Closure of the Energy Technology Engineering Center” (DOE/EA-1345). The purpose and need for agency action was based on a DOE determination in 1996 that ETEC was surplus to DOE's needs and that the site should be closed. Based on the results of the environmental assessment (EA), DOE determined that an EIS was not required and issued a finding of no significant impact (FONSI). DOE's FONSI was challenged, and the U.S. District Court for the Northern District of California's May 2, 2007, ruling in the case Natural Resources Defense Council v. Department of Energy (Slip Op. 2007 WL 2349288 (N.D. Cal. Aug. 15, 2007)) held that DOE's decision to issue a FONSI and conduct remediation on the basis of the final EA rather than prepare an EIS was in violation of NEPA. The court enjoined DOE from relinquishing control of any portion of SSFL Area IV until DOE completes an EIS and issues a Record of Decision pursuant to NEPA.

In accordance with CEQ and DOE NEPA implementing regulations (40 CFR parts 1500-1508 and 10 CFR part 1021, respectively), DOE initiated an EIS in October 2007 by issuing an Advance NOI (72 FR 58834). Public comments received as a result of the publication of the Advance NOI aided in the preparation of the 2008 NOI announcing DOE's intent to prepare an EIS (73 FR 28437). DOE held scoping meetings in July 2008. DOE soon thereafter determined that additional site characterization data were needed before DOE could proceed with the EIS.

After the additional site characterization work was completed, DOE reinitiated the EIS process by issuing an Amended NOI and conduct additional scoping meetings to allow further public involvement. The Amended NOI to Prepare an “Environmental Impact Statement for Remediation of Area IV of the Santa Susana Field Laboratory” and Conduct Public Scoping Meetings (79 FR 7439) was published in the February 7, 2014, Federal Register. DOE held two scoping meetings in February and March.

The comments received during the 2008 and 2014 scoping periods were used in the development of the “Draft Environmental Impact Statement for Remediation of Area IV and the NBZ of the Santa Susana Field Laboratory” (Draft SSFL Area IV EIS). On January 13, 2017, EPA published a notice in the Federal Register (82 FR 4336), announcing the availability of the Draft SSFL Area IV EIS and a public comment period. During the public comment period, DOE held two public hearings, as well as a hearing for Native Americans.

On December 28, 2018, EPA published a notice in the Federal Register (83 FR 67282), announcing the availability of the Final SSFL Area IV EIS. On September 27, 2019, DOE announced its decision to implement the preferred alternative for building demolition identified in the 2018 SSFL Area IV EIS to demolish the 18 buildings it owned in Area IV of SSFL and dispose of or recycle the materials off site (84 FR 51150). On November 10, 2020 (85 FR 71640), DOE announced its decision to implement the preferred alternatives for groundwater remediation identified in the 2018 SSFL Area IV EIS, with the exception of Building 4100/Building 56 Landfill TCE Plume, for which DOE would implement monitored natural attenuation. DOE has yet to issue a decision on soil remediation, the subject of this SEIS.

As required by CEQA and the California Health and Safety Code, in September 2017, California Department of Toxic Substances Control (DTSC) issued the “Draft Program Environmental Impact Report for the Santa Susana Field Laboratory, Ventura County, California” (Draft Program EIR) to evaluate proposed remedial actions at SSFL. On June 8, 2023, DTSC released the Final Program EIR for SSFL. According to DTSC's news release (https://dtsc.ca.gov/2023/06/08/news-release_t-04-23/), the Final Program EIR includes DTSC's analysis of the environmental impacts from cleanup work at the site, and mitigation measures to address those impacts, but the Final Program EIR itself does not select a cleanup standard. The Final Program EIR further provides that the responsible parties (Boeing, NASA, and DOE) will develop detailed work plans (characterized as “decision documents”) that outline the stages and methods of cleanup and will include cleanup standards. These documents will be made available for public review and comment prior to finalization and DTSC approval.

Regulations and Agreements: In 2007, DOE, NASA, Boeing, and DTSC entered into a Consent Order governing the remediation of soils and groundwater at SSFL.

In the Consolidated Appropriations Act, 2008 (Pub. L. 110-161), Congress, among other things, mandated that DOE use a portion of the funding for ETEC to enter into an interagency agreement with the EPA to conduct a joint comprehensive radioactive site characterization of Area IV and the NBZ. Additionally, in 2009, EPA received $38 million in American Recovery and Reinvestment Act funds from DOE to expand site characterization work. DOE continued to prepare the EIS while the site characterization was being completed, gathering information to support the EIS such as baseline data on traffic and noise. EPA conducted its background and on-site radionuclide investigation of Area IV and the NBZ from the summer of 2009 until the fall of 2012. EPA's final data report for the Area IV and NBZ radiological study was issued in December 2012. EPA's final data report for the radiological study is available on the ETEC website at www.energy.gov/etec/epa-characterization-1.

In December 2010, DOE and DTSC entered into the Administrative Order on Consent (2010 AOC), which modifies DOE's obligations with respect to soil cleanup and provides the process for DOE to complete soil characterization within Area IV and the NBZ (https://www.energy.gov/sites/default/files/2023-01/SSFL_DOE_AOC_Final.pdf). The 2010 AOC also describes the process for establishing soil cleanup standards for Area IV. The 2010 AOC stipulates that the soils cleanup standard will be local background concentrations, subject to specified exceptions and conditions, including provisions addressing analytical detection limits, endangered species and habitat, cultural resources, and other unforeseen circumstances.² The AOC provides a preference for on-site treatment to minimize transportation of soils. DOE completed the AOC-required soil sampling and released its data report for the Area IV/NBZ chemical study in 2014. The most frequently observed chemicals in soils were polychlorinated biphenyls (from electrical components); polycyclic aromatic hydrocarbons (from fuels and burning of wastes); dioxins (from burning of wastes and brush fires); petroleum chemicals (mostly from diesel fuel and naturally occurring organic materials); mercury (from electrical components and as heat transfer medium); and metals (antimony, cadmium, chromium VI, mercury, selenium, and silver). The results of the EPA soil radiological characterization reports and the DOE chemical characterization were incorporated into the SSFL Area IV EIS analyses.

² The soil cleanup standards (action levels) are to be listed in a “Look-up Table” as not-to-exceed concentrations in the soil.

In December 2012, EPA provided to DTSC its cleanup value recommendations to be included in the Look-Up Table (LUT) for radionuclides, and DTSC released provisional radionuclide Look-Up Table values in January 2013. In June 2013, DTSC provided Look-Up Table values for 125 of the most frequently observed chemicals at the site.

The provisional radionuclide LUT values and chemical LUT values are incorporated into appendix D of the 2018 SSFL Area IV EIS.

Boeing is the landowner of Area IV and the NBZ. In April 2017, Boeing and North American Land Trust entered into a Grant Deed of Conservation Easement and Agreement (conservation easement) to permanently preserve nearly 2,400 acres of land at SSFL, including Area IV and the NBZ as open space. In November 2017, Boeing and North American Land Trust entered into a second Grant Deed of Conservation Easement and Agreement to protect approximately 53 additional acres along the Southern Buffer Zone of SSFL. The conservation easements are legally enforceable documents that, among other restrictions, forever prohibit residential, agricultural, or commercial development or uses of the site. They permanently bind the property, regardless of who owns the land.

Purpose and Need for Agency Action

Similar to that described in the 2018 SSFL Area IV EIS DOE needs to complete remediation of SSFL Area IV and the NBZ to comply with applicable requirements for cleanup of radiological and hazardous substances. These requirements include laws, regulations, orders, and agreements. To this end, DOE proposes to clean up the affected environment in Area IV and the NBZ in a manner that is protective of the environment and the health and safety of the public and workers.

Proposed Action

DOE proposes to remediate chemically and radiologically impacted soil in Area IV and the NBZ; dispose of resulting material; and restore the affected environment in accordance with applicable laws, orders, regulations, and agreements with the State of California.

Preliminary Description of Alternatives

In the Final SSFL Area IV EIS, DOE evaluated the No Action Alternative and four different soil cleanup alternatives. The previously evaluated soil cleanup alternatives were: (1) Cleanup to the AOC LUT Values; (2) Cleanup to Revised LUT Values; (3) Conservation of Natural Resources—Residential Scenario; and (4) Conservation of Natural Resources Open Space Scenario.

Various conditions warrant the consideration of additional options for soil cleanup actions. DOE's ongoing environmental review and assessment of the site identified numerous challenging issues for soil remediation. For example, the provisional LUT values developed to define background are not implementable. Backfill soils needed to restore the site are not available at the established cleanup standards. The provisional cleanup standards set for some contaminants are lower than laboratory detection capabilities. The pristine sites used to develop the provisional look-up-table values would not pass as clean. Therefore, DOE proposes to evaluate three new soil cleanup alternatives in the SEIS: (1) Updated LUT Values Alternative, (2) Multiple Lines of Evidence Alternative, and (3) Resident with Garden Risk-based Alternative.

These alternatives are being evaluated in the SEIS because they are reasonable options for cleanup of soil contamination for DOE areas of responsibility at SSFL.

• Updated LUT Values Alternative—DOE, working with DTSC staff, identified issues with the AOC LUT background threshold values (BTVs) and method reporting limits (MRLs) and DOE developed proposed “Updated” LUT values that reduce the false positive decision error rate. The proposed Updated LUT Alternative would retain the other provisions of the AOC.

• Multiple Lines of Evidence Alternative—Looking at options for addressing issues with AOC soil cleanup implementation, DTSC developed a soil cleanup option termed the “Multiple-Lines of Evidence” (MLE) approach, which means using different types of proof to support an idea. The use of MLE makes the argument stronger and more reliable. US EPA identifies the use of MLE as a best practice in environmental cleanup. DTSC held public “Soil Smarts” workshops on November 20, 2024, and December 10, 2024, to explain the next phase of implementing the soil cleanup at SSFL and discuss the MLE approach. According to DTSC, “The MLE approach uses risk assessment to ensure the protection of human health while minimizing unnecessary removal of clean soil and destruction of critical habitats and cultural resources.” DTSC elaborated on the MLE approach: “[t]he evaluation is performed on a sample-by-sample basis and does not use any area averaging” and “[u]sing the MLE approach will allow for a cleanup to local background levels consistent with the AOCs.” A further description of DTSC's proposed MLE approach is available at https://dtsc.ca.gov/wp-content/uploads/sites/31/2024/11/SSFL-Fact-Sheet-5-Unearthing-a-Better-Approach-FINAL.pdf.

• Resident with Garden Risk-based Alternative—The Boeing Company and DTSC entered into a settlement agreement (“Boeing Settlement Agreement”) providing a framework for the soil cleanup action for Boeing's cleanup at SSFL. According to the Boeing Settlement agreement, cleanup would be up to and including a resident with garden scenario. Standard risk assessment protocols would be followed in identifying locations for a soil cleanup action.

As part of this SEIS, DOE proposes to evaluate the resident with garden scenario based on the framework from the Boeing Settlement Agreement, which differs from the resident (without garden) and open space scenarios assessed in the 2018 SSFL Area IV EIS. In the interest of evaluating a consistent cleanup standard across the SSFL site and avoiding challenges associated with disparate standards, the resident with garden scenario is being addressed in this SEIS as an option for a soil cleanup action within DOE areas of responsibility at SSFL.

A number of alternative concepts were proposed by the public during the 2018 SSFL Area IV EIS scoping period in 2008, the Community Alternatives Development Workshops in 2012, and the SSFL Area IV EIS scoping period in 2014. DOE incorporated most of these concepts into the alternatives described in the 2018 SSFL Area IV EIS. More detailed descriptions of these concepts, as well as a discussion of the analysis undertaken to evaluate each concept and inform DOE's dismissal of some concepts from detailed study, are provided in the 2018 SSFL Area IV EIS. DOE will reconsider these alternative concepts as part of the SEIS development process.

In accordance with CEQ and DOE NEPA Regulations, DOE will also evaluate a “no action” alternative. Under the No Action Alternative, DOE would undertake no further soil cleanup at SSFL Area IV and the NBZ. Other DOE and Boeing activities would continue at SSFL Area IV and the NBZ. As required under NEPA, this alternative is to establish the baseline against which the environmental effects from other analyzed alternatives can be compared.

This list of alternatives is preliminary. After public scoping, DOE will re-evaluate the reasonable alternatives to be analyzed in the SEIS.

Preliminary Identification of Environmental Issues and Expected Effects

DOE has tentatively identified potential effects to the following resource areas for consideration in the SEIS. These are the same resource areas evaluated in the 2018 SSFL Area IV EIS. The following list is not intended to be all inclusive or to imply any predetermination of effects.

• Land Resources including land use, recreation, infrastructure, and aesthetics and visual quality

• Geology and Soils including mineral and paleontological resources

• Surface Water Resources including floodplains and wetlands

• Groundwater Resources

• Biological Resources including vegetation, wildlife, and threatened, endangered, and rare species

• Air Quality, Climate Change, and Greenhouse Gas Emissions and Effects

• Noise

• Transportation including from radiological and non-radiological wastes to disposal sites and clean replacement soil to SSFL

• Traffic

• Human Health and Safety including occupational and public health and safety, and site accidents including from natural disasters (floods, hurricanes, tornadoes, and earthquakes) and intentional destructive acts (sabotage and terrorism)

• Waste Management

• Cultural Resources including archeological, paleontological, and Native American culturally important sites and Consultations

• Socioeconomics

• Environmental Justice (potential disproportionate and adverse effects on communities with environmental justice concerns)

• Cumulative effects

This list will be re-evaluated following public scoping and, as directed by the CEQ's NEPA Regulations, DOE will analyze each potential environmental effect at a level of detail in proportion to its potential significance (40 CFR 1502.2(b)).

Anticipated Permits, Authorizations, and Related Environmental Reviews

As described in the 2018 SSFL Area IV EIS, DOE areas of Area IV and the NBZ lie outside the floodplain. Because there are no floodplains, DOE's regulation 10 CFR part 1022 does not apply with respect to floodplain actions. Because the proposed project may involve actions in wetlands, the draft SEIS will include an updated wetland assessment.

Section 106 of the National Historic Preservation Act (NHPA) requires Federal agencies to take into account the effects of their undertakings on historic properties. DOE will continue to coordinate compliance with section 106 during preparation of this SEIS.

Also, DOE will continue formal consultations with the U.S. Fish and Wildlife Service as required under section 7 of the Endangered Species Act and begun during preparation of the 2018 SSFL Area IV EIS.

Public Scoping Process

DOE invites interested parties to comment on the scope of this SEIS, including the proposed action, alternatives, and effects, as well as on relevant information, studies, or analyses with respect to the proposed action. This may include environmental issues to be analyzed, and mitigation to reduce potential environmental effects. Written comments may be provided by any of the means described under ADDRESSES section. Oral comments may be provided at the public scoping meetings. DOE plans to hold two public scoping meetings. Dates, times, and locations will be announced in local media and posted on the ETEC EIS website at https://www.ssflareaiveis.com/ at least 15 days before the date of the meetings.

Requests to speak at the public meeting should be made by sending an email to SSFL_DOE_SEIS@emcbc.doe.gov. Those who pre-register should indicate at which meeting they want to speak and their name. Speakers will be scheduled on a first-come, first-served basis. In addition, individuals may sign up at the meeting reception desk and will be accommodated as time permits.

The scoping meetings will offer an opportunity for stakeholders to learn more about the proposed action from DOE officials and to provide comments on the proposed scope of the SEIS. DOE officials will provide a brief presentation explaining DOE's process for identifying reasonable alternatives and potential environmental effects to be analyzed in the SEIS. Following the presentation, the public will be given the opportunity to provide comments orally. A court reporter will be present to transcribe comments, but speakers are encouraged to provide written versions of their oral comments for the record. The presiding officer will establish the order of the speakers and will ensure that everyone who wishes to speak has a chance to do so. DOE may need to limit speakers to three minutes initially but will provide additional opportunities to speak if time allows. Comment cards will also be available for those who would prefer to submit written comments. DOE is especially interested in learning from the public any issues or alternatives that should be considered.

Persons needing reasonable accommodations in order to attend or participate in the public meeting should contact DOE using one of the methods listed in ADDRESSES section no later than one week before the relevant public meeting.

Because your comments will be made public, you are solely responsible for ensuring that your comments do not include any confidential information that you or a third party may not wish to be posted. Pursuant to 10 CFR 1004.11, any person submitting information that he or she believes to be confidential and exempt by law from public disclosure should submit via email, postal mail, or hand delivery/courier two well-marked copies: one copy of the document marked confidential including all the information believed to be confidential, and one copy of the document marked non-confidential with the information believed to be confidential deleted. Submit these documents via email. DOE will make its own determination about the confidential status of the information and treat it according to its determination.

Comments must be provided by the date provided in the DATES section of this notice to ensure consideration in preparation of the draft SEIS. DOE will consider late comments to the extent practicable.

Please be advised that your entire comment—including your personal identifying information—may be made publicly available. It is DOE's policy that all comments may be included in the public docket, without change and as received, including any personal information provided in the comments (except information deemed to be exempt from public disclosure). If you wish for DOE to withhold your name and/or other personally identifiable information, please state this prominently at the beginning of your comment. You may also submit comments anonymously.

Cooperating Agencies

Federal, State, local, and Tribal agencies with jurisdiction by law or special expertise, such as Indigenous Knowledge, are invited to participate in the preparation of the SEIS as cooperating agencies, as defined at 40 CFR 1501.8. Native American Tribes are invited to participate as consulting governments. For the 2018 SSFL Area IV EIS, there were three cooperating agencies: NASA, the U.S. Army Corps of Engineers, and the Santa Ynez Band of Chumash Indians (a federally recognized Native American Tribe with historical ties to the SSFL land). The EPA and DTSC were also invited to be cooperating agencies but declined. DOE is inviting these same agencies to participate in this SEIS as well.

SEIS Process and Schedule

DOE will consider all comments received during the public scoping period in preparing the draft SEIS. DOE anticipates issuing a draft SEIS in the winter of 2025-2026. The EPA will publish a notice of availability of the draft SEIS in the Federal Register, which will begin a minimum 45-day public comment period. DOE will hold at least one public hearing, no sooner than 30 days after the EPA notice of availability is published. DOE will consider comments submitted during the comment period on the draft SEIS when preparing the final SEIS. DOE anticipates issuing a final SEIS in the summer of 2026. EPA will issue a notice of availability of the final SEIS in the Federal Register. DOE anticipates issuing a record of decision in the fall of 2026 but will do so no sooner than 30 days from the EPA notice of availability of the final SEIS in the Federal Register.

Signing Authority

This document of the Department of Energy was signed on December 17, 2024, by Candice Trummell, Senior Advisor for Environmental Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy.

This administrative process in no way alters the legal effect of this document upon publication in the Federal Register.

Signed in Washington, DC, on December 19, 2024.
Jennifer Hartzell,
Alternate Federal Register Liaison Officer, U.S. Department of Energy.

[FR Doc. 2024-30795 Filed 12-26-24; 8:45 am]

BILLING CODE 6450-01-P